FEDERAL COMMUNICATIONS COMMISSION

47 CFR Part 64

[CG Docket Nos. 10-51 and 03-123; FCC 13-82]

Structure and Practices of the Video Relay Service Program; Telecommunications Relay Services and Speech-to-Speech Services for Individuals With Hearing and Speech Disabilities

AGENCY: Federal Communications Commission.

ACTION: Final rule; announcement of effective date.

SUMMARY: In this document, the Commission announces that the Office of Management and Budget (OMB) has approved, for a period of three years, the information collection associated with the Commission's document Structure and Practices of the Video Relay Service Program; Telecommunications Relay Services and Speech-to-Speech Services for Individuals with Hearing and Speech Disabilities (VRS Reform Report and Order). This document is consistent with the VRS Reform Report and Order, which stated that the Commission would publish a document in the Federal Register announcing the effective date of those rules.

DATES: 47 CFR 64.604(c)(13); 64.606(a)(4), (g)(3) and (g)(4); 64.611(a)(3) and (4); 64.615(a); 64.631(a) through (d), (f); 64.634(b); 64.5105(c)(4) and (c)(5); 64.5107; 64.5108; 64.5109; 64.5110; and 64.5111, published at 78 FR 40582, July 5, 2013, are effective October 30, 2014.

FOR FURTHER INFORMATION CONTACT: Gregory Hlibok, Disability Rights Office, Consumer and Governmental Affairs Bureau, at (202) 559-5158, or email: Gregory.Hlibok@fcc.gov.

SUPPLEMENTARY INFORMATION: This document announces that, on September 23, 2014, OMB approved, for a period of three years, the information collection requirements contained in the Commission's Report and Order, FCC 13-82, published at 78 FR 40582, July 5, 2013. The OMB Control Number is 3060-1201. The Commission publishes this document as an announcement of the effective date of the rules. If you have any comments on the burden estimates listed below, or how the Commission can improve the collections and reduce any burdens caused thereby, please contact Cathy Williams, Federal Communications Commission, Room 1-C823, 445 12th Street SW., Washington, DC 20554. Please include the OMB Control Number, 3060-1201, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on September 23, 2014, for the information collection requirements contained in the Commission's rules at 47 CFR 64.604(c)(13); 64.606(a)(4), (g)(3) and (g)(4); 64.611(a)(3) and (4); 64.615(a); 64.631(a) through (d), (f); 64.634(b); 64.5105(c)(4) and (c)(5); 64.5107; 64.5108; 64.5109; 64.5110; and 64.5111.

Under 5 CFR 1320, an agency may not conduct or sponsor a collection of information unless it displays a current, valid OMB Control Number.

No person shall be subject to any penalty for failing to comply with a collection of information subject to the Paperwork Reduction Act that does not display a current, valid OMB Control Number. The OMB Control Number is 3060-1201.

The foregoing notice is required by the Paperwork Reduction Act of 1995, Pub. L. 104-13, October 1, 1995, and 44 U.S.C. 3507.

The total annual reporting burdens and costs for the respondents are as follows:

OMB Control Number: 3060-1201.

OMB Approval Date: September 23, 2014.

OMB Expiration Date: September 30, 2017.

Title: Structure and Practices of the Video Relay Service Program; Telecommunications Relay Services and Speech-to-Speech Services for Individuals with Hearing and Speech Disabilities, CG Docket Nos. 10-51 and 03-123; FCC 13-82.

Form Number: N/A.

Type of Review: New collection. Respondents: Business or other for-profit entities; Individuals or households; Not-for-profit institution; Federal Government.

Number of Respondents and Responses: 39 respondents; 9,876,603 responses.

Estimated Time per Response: .005 hours to 80 hours.

Frequency of Response: Annual, on-occasion, on-going, one-time, and quarterly reporting requirements; Recordkeeping requirement, Third party disclosure requirement.

Obligation To Respond: Required to obtain or retain benefits. The statutory authority for the information collection requirements is found at Sec. 225 of the Communications Act, 47 U.S.C. 225. The law was enacted on July 26, 1990, as Title IV of the Americans with Disabilities Act of 1990 (ADA), Pub. L. 101-336, 104 Stat. 327, 366-69.

Total Annual Burden: 486,417 hours.

Total Annual Cost: None.

Nature and Extent of Confidentiality: This information collection affects individuals or households. However, access to personally identifiable information (PII) is limited to the third party vendor and the Commission only pursuant to the requirements of the Privacy Act of 1974, as amended.

Privacy Impact Assessment: This information collection affects individuals or households. The Commission is not collecting personally identifiable information (PII) for the purpose of populating in the database, however, the database is made available and accessible by the Commission and the TRS Fund Administrator. Although TRS users are required to provide their personal identifiable information to register for using TRS service, such information is available only to the Commission, the TRS Fund Administrator, and a third-party independent vendor selected by the Commission's Managing Director and the Commission. The third party vendor and the Commission are required to maintain all registered information, including personal information, in the registration database confidential in accordance to the directives under contract between the third party vendor and the Commission's Managing Director. The FCC is completing the requirements for a new system of records notice (SORN), FCC/CGB-4, “Internet-based Telecommunications Relay Service-User Registration Database (ITRS-URD),” which will cover the personally identifiable information (PII) that may be collected, maintained, used, and stored, and disposed of when obsolete, and which are part of the information associated with these information collection requirements, i.e., the new SORN will make this information collection comply with all requirements of the Privacy Act of 1974, as amended.

Needs and Uses: On June 10, 2013, the Commission released the VRS Reform Report and Order, FCC 13-82, published at 78 FR 40582, July 5, 2013, adopting further measures to improve the structure, efficiency, and quality of the VRS program, reducing the noted inefficiencies in the program, as well as reducing the risk of waste, fraud, and abuse, and ensuring that the program makes full use of advances in commercially-available technology. In the VRS Reform Report and Order, the Commission takes the following actions by: (1) Setting up an arrangement with the National Science Foundation (NSF) to enable research designed to further the Commission's multiple goals of ensuring that TRS is functionally equivalent to voice telephone services and improving the efficiency and availability of TRS; (2) establishing a pilot iTRS National Outreach Program (iTRS-NOP) by selecting one or more independent iTRS Outreach Coordinators to conduct and coordinate IP Relay and VRS outreach nationwide under the Commission's (or the TRS Fund administrator's) supervision; (3) promoting the development and adoption of voluntary, consensus interoperability and portability standards, and facilitate compliance with those standards by directing the Managing Director to contract for the development and deployment of a VRS access technology reference platform; (4) establishing a central TRS user registration database (TRS-URD) which incorporates a centralized eligibility verification requirement to ensure accurate registration and verification of users, to achieve more effective fraud and abuse prevention; and (5) selecting a neutral party to build, operate, and maintain a neutral video communication service platform, which will allow eligible relay interpretation service providers to compete without having to build their own video communication service platforms.

Federal Communications Commission.
Marlene H. Dortch,
Secretary.

[FR Doc. 2014-25275 Filed 10-29-14; 8:45 am]

BILLING CODE 6712-01-P